NATIONAL FOUNDATION ON THE ARTS AND THE HUMANITIES

Arts Advisory Panel Meeting

AGENCY: National Endowment for the Arts, National Foundation on the Arts and Humanities.

ACTION: Notice of meeting.

SUMMARY: Pursuant to Section 10(a)(2) of the Federal Advisory Committee Act (Pub. L. 92-463), as amended, notice is hereby given that nine meetings of the Arts Advisory Panel to the National Council on the Arts will be held at the Nancy Hanks Center, 1100 Pennsylvania Avenue NW, Washington, DC, 20506 as follows (ending times are approximate):

Media Arts (application review): By teleconference. This meeting will be closed.

Dates: July 9, 2012; 11:00 a.m. to 1:00 p.m. EDT.

Arts Education (application review): In room 730. This meeting will be closed.

Dates: July 10, 2012; 9:00 a.m. to 5:00 p.m. EDT.

Theater/Musical Theater (application review): In room 627. This meeting will be closed.

Dates: July 10-11, 2012, from 9:00 a.m. to 5:30 p.m. EDT on July 10th and from 9:00 a.m. to 3:00 p.m. EDT on July 11th.

Theater/Musical Theater (application review): In room 627. This meeting will be closed.

Dates: July 12-13, 2012, from 9:00 a.m. to 5:30 p.m. EDT on July 12th and from 9:00 a.m. to 3:00 p.m. EDT on July 13th.

Arts Education (application review): In room 627. This meeting will be closed.

Dates: July 17, 2012. From 9:00 a.m. to 5:00 p.m. EDT.

Music (application review): In room 714. This meeting will be closed.

Dates: July 17-18, 2012; 9:00 a.m. to 5:30 p.m. EDT on July 17th and 9:00 a.m. to 4:30 p.m. EDT on July 18th.

Music (application review): In room 714. This meeting will be closed.

Dates: July 19, 2012. From 9:00 a.m. to 5:00 p.m. EDT.

Museums (application review): In room 716. This meeting will be closed.

Dates: July 17-18, 2012. From 9:00 a.m. to 5:30 p.m. EDT on July 17th and 9:00 a.m. to 5:30 p.m. EDT on July 18th.

Museums (application review): In room 716. This meeting will be closed.

Dates: July 19, 2012. From 9:00 a.m. to 5:30 p.m. EDT.

FOR FURTHER INFORMATION CONTACT: Further information with reference to these meetings can be obtained from Ms. Kathy Plowitz-Worden, Office of Guidelines & Panel Operations, National Endowment for the Arts, Washington, DC, 20506, or call 202/682-5691.

SUPPLEMENTARY INFORMATION: The closed portions of meetings are for the purpose of Panel review, discussion, evaluation, and recommendations on financial assistance under the National Foundation on the Arts and the Humanities Act of 1965, as amended, including information given in confidence to the agency. In accordance with the determination of the Chairman of February 15, 2012, these sessions will be closed to the public pursuant to subsection (c)(6) of section 552b of Title 5, United States Code.

Dated: June 7, 2012.
Kathy Plowitz-Worden,
Panel Coordinator, National Endowment for the Arts.

[FR Doc. 2012-14240 Filed 6-11-12; 8:45 am]

BILLING CODE 7537-01-P